DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting is scheduled for Monday, February 2, 2015 (1 to 5:30 p.m.), Tuesday, February 3, 2015 (8 a.m. to 6:30 p.m.), and Wednesday, February 4, 2015 (8 a.m. to noon).

ADDRESSES: The meeting will be held in the conference room at the Holiday Inn, 204 S. 30th St., Laramie, Wyoming.

FOR FURTHER INFORMATION CONTACT: Christian Venhuizen, Wyoming Resource Advisory Council Coordinator, High Plains District Office, 2987 Prospector Drive, Casper, WY 82009; telephone 307-261-7603; email cvenhuizen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include discussions on regional mitigation, reclamation and implementation of Greater Sage-Grouse plans.

The Tuesday meeting will include a working lunch and dinner. The public may attend the meeting, but food will not be provided. The Wednesday meeting will begin with a public comment period at 8 a.m. The public may also submit written comments to the RAC by emailing cvenhuizen@blm.gov or by submitting them at the meeting location to the RAC coordinator. Depending on the number of persons wishing to comment and time available, the time for individual oral comments may be limited. If there are no members of the public interested in speaking, the meeting will move promptly to the next agenda item.

All RAC meetings are open to the public with time allocated for hearing public comments.

Larry Claypool,
Acting State Director.

[FR Doc. 2014-30837 Filed 1-2-15; 8:45 am]

BILLING CODE 4310-22-P